DEPARTMENT OF THE INTERIOR

National Park Service

[NPS-WASO-NAGPRA-NPS0026130; PPWOCRADN0-PCU00RPI4.R50000]

Notice of Inventory Completion: Alfred W. Bowers Laboratory of Anthropology, University of Idaho, Moscow, ID, and Museum of the Rockies at Montana State University, Bozeman, MT

AGENCY: National Park Service, Interior.

ACTION: Notice.

SUMMARY: The Alfred W. Bowers Laboratory of Anthropology at the University of Idaho (“Alfred W. Bowers Laboratory of Anthropology”) and the Museum of the Rockies at Montana State University (“Museum of the Rockies”) have completed an inventory of human remains and associated funerary objects in consultation with the appropriate Indian Tribes or Native Hawaiian organizations, and have determined that there is no cultural affiliation between the human remains and associated funerary objects and present-day Indian Tribes or Native Hawaiian organizations. Representatives of any Indian Tribe or Native Hawaiian organization not identified in this notice that wish to request transfer of control of these human remains and associated funerary objects should submit a written request to the Alfred W. Bowers Laboratory of Anthropology or the Museum of the Rockies. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Alfred W. Bowers Laboratory of Anthropology or Museum of the Rockies at the address in this notice by October 10, 2018.

ADDRESSES: Leah Evans-Janke, Alfred W. Bowers Laboratory of Anthropology, 875 Perimeter Drive, MS 4023, Moscow, ID 83844-4023, telephone (208) 885-1771, email leahe@uidaho.edu, or Lisa Verwys, Museum of the Rockies, 600 West Kagy Boulevard, Bozeman, MT 59717, telephone (406) 994-6622, email lisa.verwys@montana.edu.

SUPPLEMENTARY INFORMATION: Notice is here given in accordance with the Native American Graves Protection and Repatriation Act (NAGPRA), 25 U.S.C. 3003, of the completion of an inventory of human remains under the control of the Alfred W. Bowers Laboratory of Anthropology, Moscow, ID, and of associated funerary objects under the control of the Museum of the Rockies, Bozeman, MT. The human remains and associated funerary objects were removed from Park County, MT.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Alfred W. Bowers Laboratory of Anthropology and the Museum of the Rockies professional staff in consultation with representatives of the Blackfeet Tribe of the Blackfeet Indian Reservation of Montana; Confederated Salish and Kootenai Tribes of the Flathead Reservation; Fort Belknap Indian Community of the Fort Belknap Reservation of Montana; Nez Perce Tribe (previously listed as the Nez Perce Tribe of Idaho); and Northern Cheyenne Tribe of the Northern Cheyenne Indian Reservation, Montana. The Assiniboine and Sioux Tribes of the Fort Peck Indian Reservation, Montana; Chippewa Cree Indians of the Rocky Boy's Reservation, Montana (previously listed as the Chippewa-Cree Indians of the Rocky Boy's Reservation, Montana); and Crow Tribe of Montana were invited to consult, but did not participate (hereafter referred to as “The Invited and Consulted Tribes”).

History and Description of the Remains

In 1929, human remains representing, at minimum, two individuals were removed from a small cave in Park County, MT, by a private citizen. On November 1, 1988, the private citizen donated the human remains and objects to the Museum of the Rockies. Later that month, Carolyn A. Purcell, Museum of the Rockies Registrar, transferred the human remains to Dr. Roderick Sprague, Director of the Alfred W. Bowers Laboratory of Anthropology. The associated funerary objects were retained by the Museum of the Rockies. The human remains consist of a right and left female innominate and a right male humerus. No known individuals were identified. The eight associated funerary objects are six flaked stone projectile points, one flaked stone drill or knife, and one digging stick of pine or spruce.

At the time of the excavation and removal of these human remains and associated funerary objects, the land from which the remains and objects were removed was not the tribal land of any Indian Tribe or Native Hawaiian organization. In January 2018, Alfred W. Bowers Laboratory of Anthropology and Museum of the Rockies invited the Crow Tribe of Montana, who is recognized as aboriginal to the area from which these Native American human remains and associated funerary objects were removed, to consult. The Crow Tribe of Montana did not participate in consultation and did not agree to accept control of the human remains and associated funerary objects. In April 2018, the Alfred W. Bowers Laboratory of Anthropology and Museum of the Rockies agreed to transfer control of the human remains and associated funerary objects to the Blackfeet Tribe of the Blackfeet Indian Reservation of Montana; Confederated Salish and Kootenai Tribes of the Flathead Reservation; Fort Belknap Indian Community of the Fort Belknap Reservation of Montana; Nez Perce Tribe (previously listed as the Nez Perce Tribe of Idaho); and Northern Cheyenne Tribe of the Northern Cheyenne Indian Reservation, Montana.

Determinations Made by the Alfred W. Bowers Laboratory of Anthropology and the Museum of the Rockies

Officials of the Alfred W. Bowers Laboratory of Anthropology and Museum of the Rockies have determined that:

• Pursuant to 25 U.S.C. 3001(9), the human remains described in this notice are Native American based on the associated funerary objects found with them.

• Pursuant to 25 U.S.C. 3001(9), the human remains described in this notice represent the physical remains of two individuals of Native American ancestry.

• Pursuant to 25 U.S.C. 3001(3)(A), the eight objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Pursuant to 43 CFR 10.11(c)(2)(i), the disposition of the human remains and associated funerary objects may be to the Blackfeet Tribe of the Blackfeet Indian Reservation of Montana; Confederated Salish and Kootenai Tribes of the Flathead Reservation; Fort Belknap Indian Community of the Fort Belknap Reservation of Montana; Nez Perce Tribe (previously listed as the Nez Perce Tribe of Idaho); and Northern Cheyenne Tribe of the Northern Cheyenne Indian Reservation, Montana.

Additional Requestors and Disposition

Representatives of any Indian Tribe or Native Hawaiian organization not identified in this notice that wish to request transfer of control of these human remains and associated funerary objects should submit a written request with information in support of the request to Leah Evans-Janke, Alfred W. Bowers Laboratory of Anthropology, 875 Perimeter Drive, MS 4023, Moscow, ID 83844-4023, telephone (208) 885-1771, email leahe@uidaho.edu, or Lisa Verwys, Museum of the Rockies, 600 West Kagy Boulevard, Bozeman, MT 59717, telephone (406) 994-6622, email lisa.verwys@montana.edu, by October 10, 2018. After that date, if no additional requestors have come forward, transfer of control of the human remains and associated funerary objects to Blackfeet Tribe of the Blackfeet Indian Reservation of Montana; Confederated Salish and Kootenai Tribes of the Flathead Reservation; Fort Belknap Indian Community of the Fort Belknap Reservation of Montana; Nez Perce Tribe (previously listed as the Nez Perce Tribe of Idaho); and Northern Cheyenne Tribe of the Northern Cheyenne Indian Reservation, Montana, may proceed.

The Alfred W. Bowers Laboratory of Anthropology and Museum of the Rockies are responsible for notifying The Invited and Consulted Tribes that this notice has been published.

Dated: July 25, 2018.
Melanie O'Brien,
Manager, National NAGPRA Program.

[FR Doc. 2018-19540 Filed 9-7-18; 8:45 am]

BILLING CODE 4312-52-P